DEPARTMENT OF TRANSPORTATION

Federal Aviation Administration

Notice of Opportunity for Public Comment on Surplus Property Release at Sikorsky Memorial Airport, in Bridgeport, CT

AGENCY: Federal Aviation Administration (FAA), DOT.

ACTION: Request for Public Comments.

SUMMARY: Under the provisions of Title 49, U.S.C. 47153(d), notice is being given that the FAA is considering a request from Sikorsky Memorial Airport, in Bridgeport, CT to waive the surplus property requirements for approximately 11 acres of airport property located at Sikorsky Memorial Airport, in Bridgeport, CT. The subject parcels have been used for non-aeronautical purposes for over 25 years under temporary, partial release of surplus property requirements. It has been determined through study and master planning that the subject parcels will not be needed for aeronautical purposes, rather the proceeds of the sale will be used as the sponsors share of needed safety area improvement projects. Full and permanent relief of the surplus property requirements on this specific parcel will allow the airport to make the necessary aviation-safety improvements on the airfield.

DATES: Comments must be received on or before May 3, 2013.

ADDRESSES: Send comments on this document to Mr. Barry J. Hammer at the Federal Aviation Administration, 12 New England Executive Park, Burlington, Massachusetts 01803, Telephone 781-238-7625.

FOR FURTHER INFORMATION CONTACT: Documents are available for review by appointment by contacting Mr. John Ricci, Telephone 203-576-8166 or by contacting Mr. Barry J. Hammer, Federal Aviation Administration, 16 New England Executive Park, Burlington, Massachusetts, Telephone 781-238-7625.

Issued in Burlington, Massachusetts, on March 20, 2013.
Bryon Rakoff,
Acting Manager, Airports Division, New England Region.

[FR Doc. 2013-07660 Filed 4-2-13; 8:45 am]

BILLING CODE P